DEPARTMENT OF THE INTERIOR

Bureau of Land Management

[UT-912-01-1020-AE-24-1A]

Utah Resource Advisory Council Meeting Postponed

AGENCY: Bureau of Land Management, Interior.

SUMMARY: The Bureau of Land Management's Utah Statewide Resource Advisory Council meeting scheduled for November 8-9, 2000, in Bluff, Utah, will now be postponed until after the first of next year.

FOR FURTHER INFORMATION: Sherry Foot, Special Programs, Coordinator, Utah State Office, Bureau of Land Management, 324 South State Street, Salt Lake City, 84111; phone (801) 539-4195.

Dated: November 7, 2000.
Robert A. Bennett,
Associate State Director.

[FR Doc. 00-29121 Filed 11-14-00; 8:45 am]

BILLING CODE 4310-$$-M